DEPARTMENT OF COMMERCE

United States Patent and Trademark Office

[Docket No. PTO-C-2012-0054]

National Medal of Technology and Innovation Call for 2013 Nominations

AGENCY: United States Patent and Trademark Office, Department of Commerce.

ACTION: Notice and request for nominations.

SUMMARY: The Department of Commerce (United States Patent and Trademark Office) is accepting nominations for the National Medal of Technology and Innovation (NMTI). Since establishment by Congress in the Stevenson-Wydler Technology Innovation Act of 1980, the President of the United States has awarded the annual NMTI (initially known as the National Medal of Technology) to our nation's leading innovators. Those wishing to nominate a candidate who has made an outstanding, lasting contribution to the economy may obtain a nomination form from: http://go.usa.gov/1dU.

ADDRESSES: The NMTI nomination form for the year 2013 may be obtained by visiting the USPTO Web site at http://go.usa.gov/1dU. Nomination applications should be submitted to John Palafoutas, Program Manager, National Medal of Technology and Innovation Program, by electronic mail to: NMTI@uspto.gov or by mail to: John Palafoutas, NMTI Program Manager, United States Patent and Trademark Office, P.O. Box 1450, Alexandria, Virginia 22313-1450.

DATES: The deadline for submission of a nomination is April 1, 2013.

FOR FURTHER INFORMATION CONTACT: John Palafoutas, Program Manager, National Medal of Technology and Innovation Program, United States Patent and Trademark Office, 600 Dulany Street, Alexandria, VA 22314; telephone (571) 272-9821 or by electronic mail: nmti@uspto.gov.

SUPPLEMENTARY INFORMATION: Background: Enacted by Congress in the Stevenson-Wydler Technology Innovation Act of 1980, the National Medal of Technology was first awarded in 1985. On August 9, 2007, the President signed the America COMPETES (Creating Opportunities to Meaningfully Promote Excellence in Technology, Education, and Science) Act of 2007. The Act amended Section 16 of the Stevenson-Wydler Technology Innovation Act of 1980, changing the name of the Medal to the “National Technology and Innovation Medal.” The Medal is the highest honor awarded by the President of the United States to America's leading innovators in the field of technology and is given annually to individuals, teams, or companies who have made outstanding contributions to the promotion of technology and the technological workforce for the improvement of the economic, environmental or social well-being of the United States. The primary purpose of the NMTI is to recognize American innovators whose vision, creativity, and brilliance in moving ideas to market has had a profound and lasting impact on our economy and way of life. The Medal highlights the national importance of fostering technological innovation resulting in commercially successful products and services.

Eligibility and Nomination Criteria: Nomination Guidelines and nomination criteria are available at http://go.usa.gov/1dU.

Dated: December 21, 2012.
David J. Kappos,
Under Secretary of Commerce for Intellectual Property and Director of the United States Patent and Trademark Office.

[FR Doc. 2012-31524 Filed 12-31-12; 8:45 am]

BILLING CODE 3510-16-P